ELECTION ASSISTANCE COMMISSION

Federal Advisory Committee Act; Technical Guidelines Development Committee Charter Renewal

AGENCY: Election Assistance Commission.

ACTION: Notice of Charter Renewal.

SUMMARY: In accordance with the Federal Advisory Committee Act (Pub. L. 92-463), the purpose of this notice is to announce that the Election Assistance Commission (EAC) has renewed the charter for the Technical Guidelines Development Committee (TGDC) for a two-year period through September 2, 2012. The TGDC is a federal advisory committee under the Federal Advisory Committee Act.

DATES: Renewed through September 2, 2012.

ADDRESSES: Election Assistance Commission, 1201 New York Avenue, NW., Suite 1100, Washington, DC 20005.

FOR FURTHER INFORMATION CONTACT: Donetta Davidson, Designated Federal Officer, Technical Guidelines Development Committee, at (202) 566-3100. E-mail: havainfo@eac.gov.

SUPPLEMENTARY INFORMATION: The TGDC is a Federal advisory committee created by statute whose mission is to assist the EAC Executive Director in the development of voluntary voting system guidelines. In accordance with the Federal Advisory Committee Act, Public Law 92-463, as amended, this notice advises interested persons of the renewal of the TGDC. The renewal charter will be posted on EAC's Web site as of the date this notice is published.

Donetta Davidson,
Chair, Election Assistance Commission.

[FR Doc. 2010-22536 Filed 9-9-10; 8:45 am]

BILLING CODE 6820-KF-P